U.S.-CHINA ECONOMIC AND SECURITY REVIEW COMMISSION

Notice of Open Public Meetings

AGENCY: U.S.-China Economic and Security Review Commission.

ACTION: Notice of open public meetings.

SUMMARY: Notice is hereby given of meetings of the U.S.-China Economic and Security Review Commission to review and edit drafts of the 2017 Annual Report to Congress. The Commission is mandated by Congress to investigate, assess, and report to Congress annually on the “the national security implications of the economic relationship between the United States and the People's Republic of China.” Pursuant to this mandate, the Commission will hold public meetings to review and edit drafts of the 2017 Annual Report to Congress.

DATES: The meetings are scheduled for Thursday, September 7, 2017, from 9:00 a.m. to 5:00 p.m.; Friday, September 8, 2017, from 9:00 a.m. to 5:00 p.m.; Thursday, October 4, 2017, from 9:00 a.m. to 5:00 p.m.; and Friday, October 5, 2017, from 9:00 a.m. to 5:00 p.m.

ADDRESSES: 444 North Capitol Street NW., Room 231, Washington, DC 20001. Public seating is limited and will be available on a “first-come, first-served” basis. Reservations are not required to attend the meetings.

FOR FURTHER INFORMATION CONTACT: Any member of the public seeking further information concerning these meetings should contact Alexis Brigmon, 444 North Capitol Street NW., Suite 602, Washington, DC 20001; telephone: 202-624-1454, or via email at abrigmon@uscc.gov. Reservations are not required to attend the meetings.

SUPPLEMENTARY INFORMATION:

Purpose of Meeting: Pursuant to the Commission's mandate, members of the Commission will meet to review and edit drafts of the 2017 Annual Report to Congress.

The Commission is subject to the Federal Advisory Committee Act (FACA) with the enactment of the Science, State, Justice, Commerce and Related Agencies Appropriations Act, 2006 that was signed into law on November 22, 2005 (Pub. L. 109-108). In accordance with FACA, the Commission's meetings to make decisions concerning the substance and recommendations of its 2017 Annual Report to Congress are open to the public.

Topics to Be Discussed: The Commission will consider draft report sections addressing the following topics:

• U.S.-China Economic and Trade Relations, including: Year in Review: Economics Trade; Chinese Investment in the United States; and U.S. Access to China's Consumer Market.

• U.S.-China Security Relations, including: Year in Review: Security and Foreign Affairs; and Hotspots along China's Maritime Periphery.

• China and the World, including: China and Continental Southeast Asia; China and Northeast Asia; China and Taiwan; China and Hong Kong; and China's Domestic Information Controls, Global Media Influence, and Cyber Diplomacy.

• China's High Tech Development, including China's Global Pursuit of Global Dominance in Computing, Robotics, and Biotechnology; and China's Pursuit of Advanced Weapons.

Required Accessibility Statement: These meetings will be open to the public. The Commission may recess the meetings to address administrative issues in closed session.

The Commission will also recess the meetings around noon for a lunch break. At the beginning of the lunch break, the Chairman will announce what time the meetings will reconvene.

Authority: Congress created the U.S.-China Economic and Security Review Commission in 2000 in the National Defense Authorization Act (Public Law 106-398), as amended by Division P of the Consolidated Appropriations Resolution, 2003 (Pub. L. 108-7), as amended by Pub. L. 109-108 (November 22, 2005), as amended by Public Law 113-291 (December 19, 2014).

Dated: August 21, 2017.
Michael Danis,
Executive Director, U.S.-China Economic and Security Review Commission.

[FR Doc. 2017-18018 Filed 8-24-17; 8:45 am]

BILLING CODE 1137-00-P